GENERAL SERVICES ADMINISTRATION

[FMR Bulletin 2005-B1]

Delegations of Lease Acquisition Authority-Notification, Usage, and Reporting Requirements for General Purpose, Categorical, and Special Purpose Space Delegations

AGENCY: General Services Administration.

ACTION: Notice of Bulletin.

SUMMARY: SUMMARY: It has been reported recently to Congressional committees and the General Services Administration (GSA), Public Buildings Service that some Federal agencies using the delegated leasing authority issued to Federal agencies on September 25, 1996, as part of the “Can’t Beat GSA Leasing” program are not following properly the instructions specified as a condition for use of the leasing delegation. The attached bulletin reemphasizes and updates the notification and reporting requirements specified in the delegation of authority and its supporting information, GSA Bulletin FPMR D-239 and GSA Bulletin FPMR D-239, Supplement 1, which are hereby canceled and superseded by this bulletin. Additional reporting requirements for categorical and special purpose space delegations are also included. This bulletin is in keeping with the spirit of Executive Order 13327, “Federal Real Property Asset Management,” in order to maximize the increased Governmentwide emphasis on real property inventory management. The FMR and any corresponding documents may be accessed at GSA’s website at http://www.gsa.gov/fmr. Click on FMR Bulletins.

EFFECTIVE DATES: May 25, 2005.

FOR FURTHER INFORMATION CONTACT: For clarification of content, contact Stanley C. Langfeld, General Services Administration, Office of Real Property Management (MP), Washington, DC 20405; stanley.langfeld@gsa.gov, (202) 501-1737. Please cite FMR Bulletin 2005-B1.

SUPPLEMENTARY INFORMATION: GSA Bulletin FPMR D-239, published in the Federal Register October 16, 1996, announced a new GSA leasing program called “Can’t Beat GSA Leasing” and the delegation of lease acquisition authority issued by the Administrator of General Services to the heads of all Federal agencies in his letter of September 25, 1996. GSA Bulletin FPMR D-239, Supplement 1, published in the Federal Register on December 18, 1996, issued supporting information for the delegation.

There have been several instances reported of agencies failing to meet the conditions required for use of the lease delegation:

1. Several agencies have failed to notify GSA prior to conducting a specific leasing action,

2. Semi-annual performance reports on use of the lease delegation are not being submitted to GSA on a regular basis, and

3. Some agencies have exceeded the authority of the delegation, which is restricted to below prospectus level actions.

The following bulletin reemphasizes the above conditions, updates outdated information and citations, and modifies certain reporting requirements.

[FMR Bulletin 2005-B1]

To: Heads of Federal Agencies

Subject: Revised Implementation Requirements of the Delegation of Lease Acquisition Authority.

1. Purpose. This bulletin reemphasizes and modifies certain procedures associated with the use of the delegation of general purpose leasing authority provided by GSA in 1996 as part of the leasing program called “Can't Beat GSA Leasing,” and two other longstanding delegations for categorical and agency-specific special purpose space as currently provided in 41 CFR 102-73.

2. Expiration. This bulletin contains information of a continuing nature and will remain in effect until canceled.

3. Background.

a. Agencies (without their own independent leasing authority) are required to use one of the three types of blanket lease delegations offered by GSA: 1) general purpose, 2) categorical, or 3) special purpose. The “Can’t Beat GSA Leasing” program, offering the general purpose delegation, was an outgrowth of GSA's commitment to streamline its leasing operations. Under this program, GSA provided each Federal agency a simple choice: either engage GSA to provide the most cost-effective and fastest service available, or use the leasing authority to perform the space acquisition on its own. This bulletin emphasizes the need for agencies to communicate with GSA prior to using the general purpose delegation for each space action. This bulletin also establishes that agencies are now required to submit semi-annual reports on their use of any of the three types of blanket lease delegations.

b. Executive Order No. 13327, “Federal Real Property Asset Management” (69 F.R. 5897), dated February 4, 2004, promotes the efficient and economical use of Federal real property resources. Among other things, the Executive Order requires Federal agencies to establish performance measures addressing the cost, value, and efficiency of all acquisitions, within the scope of an overall agency asset management plan. Agencies using any of the three GSA lease delegations are expected to apply these measures to their acquisitions.

4. Action.

a. Pursuant to the authority vested in the Administrator of General Services by subsections 121(d) and 585(a) of Title 40 of the United States Code, in his letter of September 25, 1996, the Administrator delegated authority to the heads of all Federal agencies to perform all functions related to the leasing of general purpose space for a term of up to 20 years regardless of geographic location. Lease procurements using this delegation must be compatible with the GSA community housing plans for new Federal construction or any suitable space that will become available in Federally-controlled facilities. GSA will advise the agency about any limiting factors (e.g. length of term) so that the lease will be consistent with any community housing plans. This delegation of authority does not alter the space delegation authorities in 41 CFR 102-73 of the Federal Management Regulation, which pertain to “categorical” and “special purpose” space. It is also important to emphasize that none of the GSA delegations provide authorization for agencies to conduct procurements on behalf of or to collect rent from other agencies.

b. General Purpose Delegation Notification Requirements. Prior to instituting any new, succeeding, or superseding lease action under this delegation, the head of a Federal agency or its designee shall notify in writing the appropriate GSA, Assistant Regional Administrator for Public Buildings Service (ARA/PBS) of the agency's need for general purpose space and the agency's intent to exercise the authority granted in this delegation. The name of the contracting officer conducting the procurement as well as a limited acquisition plan for the procurement shall be included in the notice to GSA. The limited acquisition plan must meet the requirements specified by General Services Administration Acquisition Manual (GSAM), Part 507.1- Acquisition Plans. A sample limited acquisition plan is available online at http://www.gsa.gov/leasingform. The agency may exercise the authority contained in this delegation only when the ARA/PBS notifies the requesting agency in writing that suitable Federally-controlled space is not available to meet its space need. If the agency subsequently decides not to exercise the requested authority, it must provide written notice of such to the ARA/PBS.

c. General Conditions for the use of General Purpose, Categorical, and Special Purpose Delegations.

(1) Relocation of Government employees from GSA-controlled Federally-owned or -leased space may take place when prior written confirmation has been received from the appropriate ARA/PBS that suitable Government-controlled space cannot be provided for them.

(2) The average net annual rent (gross annual rent excluding services and utilities) of any lease action executed under these delegations must be below the prospectus threshold. The prospectus threshold may be adjusted annually in accordance with 40 U.S.C. 3307(g). The current threshold for each fiscal year can be accessed by entering GSA's website at http://www.gsa.gov and then inserting “prospectus thresholds” in the search mechanism in the upper right hand corner of the page.

(3) Redelegation of the authority to lease may only be made to those officers, officials, and employees fully meeting the experience and training requirements of the contracting officer warrant program as specified in section 501.603-1 of the GSAM.

(4) Federal agencies must acquire and utilize the space in accordance with all applicable laws and regulations that apply to Federal space acquisition activities, including, but not limited to, the Competition in Contracting Act, the Federal Management Regulation, Executive Order No. 12072, Executive Order No. 13006, Executive Order No. 13327, the Davis-Bacon Act, OMB Circular A-11 (Scoring), and the GSAM.

(5) Agencies are responsible for maintaining the capacity to support all delegated leasing activities, including a warranted contracting officer, legal review and oversight, construction and inspection management, cost estimation, lease management and administration, and program oversight. Prior to each leasing action, the agency must conduct an assessment of its needs to establish technical requirements and the amounts of space necessary to meet mission requirements. Additionally, agencies are expected to acquire space at charges consistent with prevailing market rates for comparable facilities in the community. Accountability for all leasing activities shall be coordinated through the agency’s Senior Real Property Officer.

(6) GSA retains the right to assess, at any time, both the integrity of each individual lease action as well as the capability of an agency to perform all aspects of the delegated leasing activities and, if necessary, to revoke an agency’s delegation.

(7) The general purpose delegation requires agencies to provide GSA with leasing performance information periodically. In addition, GSA is now requiring agencies to provide lease performance information on categorical and special purpose lease delegation actions. Accordingly, agencies using any of the GSA lease delegations are hereafter required to provide GSA with reports semi-annually on April 30 and October 31 that detail the leasing activities conducted under the delegations. Reports should be sent to GSA, Office of Governmentwide Policy, Office of Real Property Management (MP), 1800 F Street, N.W., Room 6203, Washington, DC 20405. Reports may also be sent via e-mail to real.property@gsa.gov. The reports should contain the following information for each currently active and future lease executed under the lease delegation:

(a) Agency/bureau name;

(b) Property Address—Street address, city and state of the leased building;

(c) Rentable Square Feet (if applicable) —The area for which rent is charged (based on the local commercial method of measurement;

(d) Annual Rental Rate per Square Foot—Divide the total annual rent by the rentable square feet to obtain the annual rental rate;

(e) Type of Space—General purpose-office, storage, or special. If categorical or special purpose, specify type;

(f) Effective Net Annual Rent—The effective net annual rent is obtained by dividing the total rent (excluding services and utilities) to be paid over the lease term (after adjusting for any rent-free periods) by the number of years in the lease. Estimated CPI escalations and tax escalations are not to be included in this calculation. Provide total annual rent for categorical or special purpose space where effective net annual rent cannot be calculated;

(g) Lease Term;

(h) Lease Expiration Date; and

(i) If the lease is for general purpose space, provide date of the ARA/PBS notice stating that no suitable Federally-controlled space was available to satisfy the space need.

(8) Agencies using the general purpose delegation are also required to provide the following information to the GSA Regional Office from which the delegation authorization was requested:

(a) Upon award, provide notification of the award date and location of the property, including documentation that the negotiated rental rate is within the prevailing market rental rate for the class of building leased in the delegated action. The documentation may include information from organizations such as SIOR, Black’s Guide, Torto-Wheaton, Co-Star, etc. If the negotiated rental rate exceeds the market range, provide information as to why the market rate was exceeded; and

(b) Provide 18 months advance notice of lease expiration if there is a continuing need for the space and the agency wishes to use the delegation again to satisfy the requirement.

(9) Agencies using any of the GSA delegations are responsible for observing the above rules and conditions. Improper use of the delegations may result in revocation of the delegation.

d. Further information regarding this program may be obtained by contacting the General Services Administration, Office of Real Property Management on (202) 501-0856.

Dated: 12 May 2005.
G. Martin Wagner,
Associate Administrator for Governmentwide Policy.

[FR Doc. 05-10451 Filed 5-24-05; 8:45 am]

BILLING CODE 6820-EP-S